DEPARTMENT OF COMMERCE

Foreign-Trade Zones Board

[B-19-2019]

Foreign-Trade Zone (FTZ) 249—Pensacola, Florida; Notification of Proposed Production Activity; GE Renewables North America, LLC (Wind Turbine Nacelles, Hubs, and Drivetrains); Pensacola, Florida

GE Renewables North America, LLC (GE Renewables) submitted a notification of proposed production activity to the FTZ Board for its facility in Pensacola, Florida. The notification conforming to the requirements of the regulations of the FTZ Board (15 CFR 400.22) was received on March 25, 2019.

GE Renewables already has authority to produce wind turbines, related hubs and nacelles, and drivetrains within Subzone 249A. The current request would add foreign status materials/components to the scope of authority. Pursuant to 15 CFR 400.14(b), additional FTZ authority would be limited to the specific foreign-status materials/components described in the submitted notification (as described below) and subsequently authorized by the FTZ Board.

Production under FTZ procedures could exempt GE Renewables from customs duty payments on the foreign-status materials/components used in export production. On its domestic sales, for the foreign-status materials/components noted below, GE Renewables would be able to choose the duty rates during customs entry procedures that apply to the finished products in the existing scope of authority. GE Renewables would be able to avoid duty on foreign-status components which become scrap/waste. Customs duties also could possibly be deferred or reduced on foreign-status production equipment.

The materials/components sourced from abroad include shrink disks, insert tapers, gearbox covers for machine head nacelle assemblies, and pitch covers for hubs (duty rate ranges from duty-free to 3%). The request indicates that certain materials/components are subject to special duties under Section 301 of the Trade Act of 1974 (Section 301), depending on the country of origin. The applicable Section 301 decisions require subject merchandise to be admitted to FTZs in privileged foreign status (19 CFR 146.41). Public comment is invited from interested parties. Submissions shall be addressed to the Board's Executive Secretary at the address below. The closing period for their receipt is May 13, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: March 27, 2019.
Andrew McGilvray,
Executive Secretary.

[FR Doc. 2019-06471 Filed 4-2-19; 8:45 am]

BILLING CODE 3510-DS-P